DEPARTMENT OF LABOR

Office of the Secretary

Submission for OMB Review; Comment Request

June 26, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on 202-693-4129 (this is not a toll-free number) or E-mail: king.darrin@dol.gov.

Comments should be sent to Office of Information and Regulatory Affairs, Attn: OMB Desk Officer for the Employee Benefits Security Administration (EBSA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration.

Type of Review: Extension of a currently approved collection.

Title: Notice of Enrollment Rights.

OMB Number: 1210-0101.

Affected Public: Business or other for-profit; Not-for-profit institutions; and Individuals or households.

Frequency: On occasion.

Type of Response: Third party disclosure.

Number of Respondents: 2,600,000.

Number of Annual Responses: 9,602,000.

Total Estimated Burden Hours: 7,200.

Total Annualized Capital/Startup Costs: $0.

Total Annual Costs (operating/maintaining systems or purchasing services): $841,000.

Description: Section 734 of the Employee Retirement Income Security Act of 1974 (ERISA), added by the Health Care Portability and Accountability Act of 1996 (HIPAA), authorized the Secretary of Labor, in coordination with the Secretary of Health and Human Services (HHS) and the Secretary of the Treasury, to promulgate such regulations as may be necessary or appropriate to carry out the provisions of the statute. Accordingly, Interim Rules Implementing the Portability Requirement for Group Health Plan were published on April 8, 1997, (62 FR 16920) (April 8 Interim Rules).

In order to improve participants' understanding of their rights under an employer's group health plan, HIPAA requires that a participant be provided with a description of a plan's special enrollment rules on or before the time that a participant is offered the opportunity to enroll in a group health plan. These special enrollment rules generally apply to circumstances in which the participant initially declined to enroll in a plan, and later wishes to enroll.

The April 8 Interim Rules offer a model form to be used by group health plans and health insurance issuers that includes the minimum elements of information mandated by the statute. The ICR implements the disclosure requirements of HIPAA related to special enrollment rights.

Agency: Employee Benefits Security Administration.

Type of Review: Extension of a currently approved collection.

Title: Notice of Pre-Existing Condition Exclusion under ERISA.

OMB Number: 1210-0102.

Affected Public: Business or other for-profit; Not-for-profit institutions; and Individuals or households.

Frequency: On occasion.

Type of Response: Third party disclosure.

Number of Respondents: 1,300,000.

Number of Annual Responses: 8,570,000.

Total Estimated Burden Hours: 9,004.

Total Annualized Capital/Startup Costs: $0.

Total Annual Costs (operating/maintaining systems or purchasing services): $1,088,359.

Description: Section 734 of the Employee Retirement Income Security Act of 1974 (ERISA), added by the Health Care Portability and Accountability Act of 1996 (HIPAA) authorized the Secretary of Labor, in coordination with the Secretary of Health and Human Services (HHS) and the Secretary of the Treasury, to promulgate such regulations as may be necessary or appropriate to carry out the provisions of the statute. Accordingly, Interim Rules implementing the Portability Requirement for Group Health Plans were published on April 8, 1997, (62 FR 16920) (April 8 Interim Rules).

Under the April 8 Interim Rules, a group health plan or health insurance issuer may not impose any pre-existing conditions exclusion on a participant unless that participant has been notified in writing that the plan includes pre-existing condition exclusion provisions, that a participant has a right to demonstrate any periods for prior creditable coverage, and that the plan or issuer will assist the participant in obtaining a certificate of prior coverage from any prior plan or issuer, if necessary. In addition, the April 8 Interim Rules require that before a plan or issuer imposes a pre-existing condition exclusion on a particular participant, it must first disclose that determination in writing, including the basis of the decision, and an explanation of any appeal procedure established by the plan or issuer. Specific disclosure requirements relating to pre-existing exclusions constitute the ICR.

Agency: Employee Benefits Security Administration.

Type of Review: Extension of a currently approved collection.

Title: Establishing Creditable Coverage.

OMB Number: 1210-0103.

Affected Public: Business or other for-profit; Not-for-profit institutions; and Individuals or households.

Frequency: On occasion.

Type of Response: Third party disclosure.

Number of Respondents: 2,600,000.

Number of Annual Responses: 44,396,000.

Total Estimated Burden Hours: 351,150.

Total Annualized Capital/Startup Costs: $0.

Total Annual Costs (operating/maintaining systems or purchasing services): $34,689,450.

Description: Section 734 of the Employee Retirement Income Security Act of 1974 (ERISA), added by the Health Care Portability and Accountability Act of 1996 (HIPAA) authorized the Secretary of Labor, in coordination with the Secretary of Health and Human Services (HHS) and the Secretary of the Treasury, to promulgate such regulations as may be necessary or appropriate to carry out the provisions of the statute. Section 701(e)(3) requires that the Secretary of Labor issue rules to prevent any entity's failure to provide and individual with a certification of prior health coverage, or certain other required disclosures, from adversely affecting the individual's subsequent health coverage.

On April 8, 1997 (67 FR 16894), the Department issues Interim Final Rules, requiring a group health plan to provide a written certificate suitable for establishing the prior creditable coverage of a participant or beneficiary. The April 8 Interim Final Rules offer model certification and notice forms, containing the minimum information mandated by the statute, to be used by group health plans and health insurance issuers. This ICR covers the provision of materials sufficient to establish prior creditable coverage.

Ira L. Mills,
Departmental Clearance Officer.

[FR Doc. 03-16873 Filed 7-2-03; 8:45 am]

BILLING CODE 4510-29-M